DEPARTMENT OF THE INTERIOR

Bureau of Indian Affairs

Information Collection for Reindeer in Alaska, Request for Comments

AGENCY: Bureau of Indian Affairs, Interior.

ACTION: Notice of Proposed Renewal.

SUMMARY: The Bureau of Indian Affairs (BIA) is seeking comments on the information collection: 25 CFR part 243, Reindeer in Alaska. The information collected under this program is related to the Alaska Native reindeer industry and applies to non-natives who own, or want to own reindeer in Alaska. It is used solely to monitor and regulate the possession and use of Alaskan reindeer by non-Natives in Alaska. This collection needs renewal.

DATES: Submit comments on or before June 9, 2008.

ADDRESSES: Send comments to: Warren Eastland, Wildlife Biologist, Bureau of Indian Affairs, P.O. Box 25520 [3rd floor Federal Building], Juneau, AK 99802-5520; Telephone (907) 586-7321 and Facsimile at (907) 586-7120. We cannot accept electronic submissions at this time.

FOR FURTHER INFORMATION CONTACT: Warren Eastland, Wildlife Biologist, (907) 586-7321, Facsimile at (907) 586-7120.

SUPPLEMENTARY INFORMATION: Information to be provided includes name, address, and where an applicant will keep reindeer. The applicant must fill out a permit to get a reindeer for any purpose. The applicant is required to report on the status of reindeer annually or when a change occurs if earlier than the date for the annual report.

Request for Comments

The Bureau of Indian Affairs requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and,

(d) Ways we could minimize the burden of the collection of the information on the respondents, such as through the use of automated collection techniques or other forms of information technology.

Please note that an agency may not sponsor or request, and an individual need not respond to, a collection of information unless it has a valid Office of Management and Budget (OMB) Control Number.

It is our policy to make all comments available to the public for review at the location listed in the ADDRESSES section, room 347D, during the hours of 8 a.m. to 5 p.m., Pacific Standard Time, Monday through Friday except for legal holidays. If you wish to have your name and/or address withheld, you must state this prominently at the beginning of your comments. We cannot guarantee that your personally identifiable information might not be made public at some time. All comments from organizations or representatives will be available for review. We may withhold comments from review for other reasons.

OMB Control Number: 1076-0047.

Type of Review: Renewal.

Title: 25 CFR 243, Reindeer in Alaska.

Brief Description of Collection: Information is provided to obtain or retain a benefit, namely, a permit to obtain a reindeer, but without such information no permit shall be issued.

Respondents: Non-Natives who wish to possess Alaskan reindeer.

Number of Respondents: 10.

Estimated Time per Response: 5 to 20 minutes with the average being 10 minutes.

Frequency of Response: The number of respondents varies annually but never exceeds 10.

Total Annual Burden to Respondents: 3 hours.

Dated: March 28, 2008.
Carl J. Artman,
Assistant Secretary—Indian Affairs.

[FR Doc. E8-7291 Filed 4-7-08; 8:45 am]

BILLING CODE 4310-XN-P